INTERNATIONAL TRADE COMMISSION

[Investigation No. 337-TA-1099]

Certain Graphics Processors and Products Containing the Same Institution of Investigation

AGENCY: U.S. International Trade Commission.

ACTION: Notice.

SUMMARY: Notice is hereby given that a complaint was filed with the U.S. International Trade Commission on December 29, 2017, under section 337 of the Tariff Act of 1930, as amended, on behalf of ZiiLabs Inc., Ltd. of Bermuda. The complaint alleges violations of section 337 based upon the importation into the United States, the sale for importation, and the sale within the United States after importation of certain graphics processors and products containing the same by reason of infringement of certain claims of U.S. Patent No. 6,181,355 (“the ‘355 Patent”); U.S. 6,900,800 (“the ‘800 Patent”); U.S. Patent No. 8,144,156 (“the ‘156 Patent”); and U.S. Patent No. 8,643,659 (“the ‘659 Patent). The complaint further alleges that an industry in the United States exists as required by the applicable Federal Statute.

The complainant requests that the Commission institute an investigation and, after the investigation, issue a limited exclusion order and cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Katherine Hiner, the Office of the Secretary, Docket Services, U.S. International Trade Commission, telephone (202) 205-1802.

SUPPLEMENTARY INFORMATION:

Authority: The authority for institution of this investigation is contained in section 337 of the Tariff Act of 1930, as amended, 19 U.S.C. 1337 and in section 210.10 of the Commission's Rules of Practice and Procedure, 19 CFR 210.10 (2017).

Scope of Investigation: Having considered the complaint, the U.S. International Trade Commission, on January 29, 2018, ORDERED THAT—

(1) Pursuant to subsection (b) of section 337 of the Tariff Act of 1930, as amended, an investigation be instituted to determine whether there is a violation of subsection (a)(1)(B) of section 337 in the importation into the United States, the sale for importation, or the sale within the United States after importation of certain graphics processors and products containing the same by reason of infringement of one or more of claims 1-11 of the ‘355 Patent; claims 1, 2, 6, 7, and 11-19 of the ‘800 Patent; claims 1-16 of the ‘156 Patent; and claims 1-10 and 15-20 of the ‘659 Patent; and whether an industry in the United States exists as required by subsection (a)(2) of section 337;

(2) For the purpose of the investigation so instituted, the following are hereby named as parties upon which this notice of investigation shall be served:

(a) The complainant is: ZiiLabs Inc., Ltd., Clarendon House, 2 Church Street, Hamilton, HM11, Bermuda.

(b) The respondents are the following entities alleged to be in violation of section 337, and are the parties upon which the complaint is to be served:

ASUSTeK Computer Inc., No. 15, Li-Te Road, Beitou District, Taipei 112, Taiwan

ASUS Computer International, 800 Corporate Way, Freemont, CA 94539

EVGA Corporation, 408 Saturn Street, Brea, CA 92821

Gigabyte Technology Co., Ltd., No. 6, Baoqiang Road, Xindian District, New Taipei City 231, Taiwan

G.B.T. Inc., 17358 Railroad Street, City of Industry, CA 91748

Micro-Star International Co., Ltd., No. 69, Lide Street, Zhonghe District, New Taipei City 235, Taiwan

MSI Computer Corp., 901 Canada Court, City of Industry, CA 91748

Nintendo Co., Ltd., 11-1 Hokotate-cho, Kamitoba, Minami-ku, Kyoto 601-8501, Japan

Nintendo of America Inc., 4600 150th Avenue NE, Redmond, WA 98052

Nvidia Corporation, 2788 San Tomas Expressway, Santa Clara, CA 95051

PNY Technologies Inc., 100 Jefferson Road, Parsippany, NJ 07054

Zotac International (MCO) Ltd., Rua de Pequim No. 202A-246, Macau Finance Centre, 16 Andar L, Macau, Macau

Zotac USA Inc., 1220 Highland Avenue, Suite 930, Duarte, CA 91009

(3) For the investigation so instituted, the Chief Administrative Law Judge, U.S. International Trade Commission, shall designate the presiding Administrative Law Judge.

The Office of Unfair Import Investigations will not participate as a party in this investigation.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: January 30, 2018.
Lisa R. Barton,
Secretary to the Commission.

[FR Doc. 2018-02177 Filed 2-2-18; 8:45 am]

BILLING CODE 7020-02-P